DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders and findings with May anniversary dates. In accordance with Commerce's regulations, we are initiating those administrative reviews.

DATES: Applicable July 6, 2021.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders and findings with May anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at https://access.trade.gov, in accordance with 19 CFR 351.303.¹ Such submissions are subject to verification, in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 35 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection. Parties are requested to: (a) Identify which companies subject to review previously were collapsed; and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Respondent Selection—Aluminum Extrusions From the People's Republic of China

In the event Commerce limits the number of respondents for individual examination in the administrative review of the antidumping duty order on aluminum extrusions from the People's Republic of China (China), Commerce intends to select respondents based on volume data contained in responses to Q&V questionnaires. Further, Commerce intends to limit the number of Q&V questionnaires issued in the review based on CBP data for U.S. imports of aluminum extrusions from China. The extremely wide variety of individual types of aluminum extrusion products included in the scope of the order on aluminum extrusions would preclude meaningful results in attempting to determine the largest China exporters of subject merchandise by volume. Therefore, Commerce will limit the number of Q&V questionnaires issued based on the import values in CBP data which will serve as a proxy for imported quantities. Parties subject to the review to which Commerce does not send a Q&V questionnaire may file a response to the Q&V questionnaire by the applicable deadline if they desire to be included in the pool of companies from which Commerce will select mandatory respondents. The Q&V questionnaire will be available on Commerce's website at http://trade.gov/enforcement/news.asp on the date of publication of this notice in the Federal Register. The responses to the Q&V questionnaire must be received by Commerce within 14 days of publication of this notice. Please be advised that due to the time constraints imposed by the statutory and regulatory deadlines for antidumping duty administrative reviews, Commerce does not intend to grant any extensions for the submission of responses to the Q&V questionnaire. Parties will be given the opportunity to comment on the CBP data used by Commerce to limit the number of Q&V questionnaires issued. We intend to release the CBP data under APO to all parties having an APO within seven days of publication of this notice in the Federal Register. Commerce invites comments regarding CBP data and respondent selection within five days of placement of the CBP data on the record.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://enforcement.trade.gov/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

Exporters and producers must file a timely Separate Rate Application or Certification if they want to be considered for respondent selection. Furthermore, exporters and producers who submit a Separate Rate Application or Certification and subsequently are selected as mandatory respondents will no longer be eligible for separate rate status unless they respond to all parts of the questionnaire as mandatory respondents.

Initiation of Reviews

In accordance with 19 CFR 351.221(c)(1)(i), we are initiating administrative reviews of the following AD and CVD orders and findings. We intend to issue the final results of these reviews not later than May 31, 2022.

| Period to be reviewed
AD Proceedings
BELGIUM: Certain Carbon and Alloy Steel Cut-to-Length Plate, A-423-812 | 5/1/20-4/30/21
A.G. der Dillinger Hütte
BBC Chartering Belgium
C.A. Picard GmbH
Doerrenberg Edelstahl GmbH
DMC Nobelclad Europe S.A.
Edgen Murray
EEW Steel Trading LLC
Erndtebrücker Eisenwerk GmbH & Co. KG
Fike Europe B.A.
Industeel Belgium S.A.
Industeel France S.A.S.
Logiudice Forni SRL
Macsteel International
Nialco S.A.
NLMK Clabecq S.A.
NLMK Dansteel A.S.
NLMK Plate Sales S.A.
NLMK Sales Europe S.A.
NLMK Manage Steel Center S.A.
NLMK La Louviere S.A.
NLMK Verona SpP
NobelClad Europe GmbH & Co. KG
RP Technik GmbH Profilsysteme
Salzgitter Mannesmann International GmbH
Stahlo Stahl Service GmbH & Co. KG
Stemcor USA, Inc.
Thyssenkrupp Steel Europe AG
TWF Treuhandgesellschaft Werbefilm mbH
Tranter Service Centers
Válcovny Trub Chomutov A.s.
Voestalpine Grobblech GmbH.
CANADA: Large Diameter Welded Pipe, A-122-863 | 5/1/20-4/30/21
Acier Profile SBB Inc
Aciers Lague Steels Inc
Amdor Inc
Armtec-Canada Culvert
BPC Services Group
Bri‐Steel Manufacturing
Canada Culvert
Canadian National Steel Corp
Canam (St Gedeon)
Canam Group Inc.
Cappco Tubular Products Canada Inc
CFI Metal Inc
Dominion Pipe & Piling
Enduro Canada Pipeline Services
Evraz Inc. NA
Evraz Inc. NA Canada
Fi Oilfield Services Canada
Forterra
Gchem Ltd
Graham Construction
Groupe Fordia Inc
Grupo Fordia Inc
Hodgson Custom Rolling
Hyprescon Inc
Interpipe Inc
K K Recycling Services
Kobelt Manufacturing Co
Labrie Environment
Les Aciers Sofatec
Lorenz Conveying P
Lorenz Conveying Products
Matrix Manufacturing
MBI Produits De Forge
Nor Arc
Peak Drilling Ltd
Pipe & Piling Sply Ltd
Pipe & Piling Supplies
Prudental
Prudential
Shaw Pipe Protecction
Shaw Pipe Protection
Tenaris Algoma Tubes Facility
Tenaris Prudential
The Canadian National Steel Corporation
Welded Tube of Can Ltd
WGI Westman Group Inc.
CANADA: Polyethylene Terephthalate Resin, A-122-855 | 5/1/20-4/30/21
Compagnie Selenis Canada
GERMANY: Certain and Alloy Steel Cut-To-Length Plate, A-428-844 | 5/1/20-4/30/21
AG der Dillinger Hüttenwerke
GREECE: Large Diameter Welded Pipe, A-484-803 | 5/1/20-4/30/21
Corinth Pipeworks Pipe Industry S.A.
ITALY: Certain Carbon and Alloy Steel Cut-To-Length Plate, A-475-834 | 5/1/20-4/30/21
Arvedi Tubi Acciaio
C.M.T. Construzioni Meccaniche di Taglione Emilio & C. S.a.s.
Lyman Steel Company
NLMK Verona SpA
O.ME.P SpA
Ofar SpA
Officine Meccaniche M.A.M. s.r.l.
Officine Tecnosider s.r.l.
Sesa SpA.
SZ Acroni D.o.o.
Tim-Cop Doo Temerin
JAPAN: Diffusion-Annealed Nickel-Plated Flat Rolled Steel Products, A-588-869 | 5/1/20-4/30/21
Toyo Kohan Co., Ltd
OMAN: Polyethylene Terephthalate Resin, A-523-810 | 5/1/20-4/30/21
OCTAL SAOC-FZC
REPUBLIC OF KOREA: Carbon and Alloy Steel Wire Rod, A-580-891 | 5/1/20-4/30/21
POSCO
REPUBLIC OF KOREA: Certain Carbon and Alloy Steel Cut-To-Length Plate, A-580-887 | 5/1/20-4/30/21
POSCO
REPUBLIC OF KOREA: Large Diameter Welded Pipe, A-580-897 | 5/1/20-4/30/21
AJU Besteel Co., Ltd.
Chang Won Bending Co., Ltd.
Daiduck Piping Co., Ltd.
Dong Yang Steel Pipe Co., Ltd.
Dongbu Incheon Steel Co., Ltd.
EEW KHPC Co., Ltd.
EEW Korea Co., Ltd.
EM Solution Co., Ltd.
Hansol Metal Co., Ltd.
Hawin
Histeel Co., Ltd.
Husteel Co., Ltd.
Hyosung
Hyundai RB Co., Ltd.
Hyundai Steel
Hyundai Steel Co., Ltd.
Hyundai Steel Company
Kiduck Industries Co., Ltd.
Kum Kang Kind. Co., Ltd.
Kumsoo Connecting Co., Ltd.
Nexteel Co., Ltd.
POSCO
Samkang M&T Co., Ltd.
SeAH Steel Corporation
SeAH Steel, Co., Ltd.
Seonghwa Industrial Co., Ltd.
SIN‐E B&P Co., Ltd.
Steel Flower Co., Ltd.
WELTECH Co., Ltd.
REPUBLIC OF KOREA: Polyester Staple Fiber, A-580-839 | 5/1/20-4/30/21
Huvis Corporation
Toray Advanced Materials Korea, Inc. (formerly Toray Chemical Korea, Inc.) (“TAK”)
TAIWAN: Stainless Steel Plate in Coils, A-583-830 | 5/1/20-4/30/21
Aurora Metal International Co., Ltd.
Build Up Hardware Co., Ltd.
Chain Chon Industrial Co., Ltd.
Chang Mien Industries Co., Ltd.
Chia Far Industries Factory Co., Ltd.
Chien Shing Stainless Co., Ltd.
China Steel Corporation
China Tah Lee Special Steel Co., Ltd.
Da Song Enterprise Co., Ltd.
Da Tsai Stainless Steel Co., Ltd.
East Tack Enterprise Co., Ltd.
Gifull Enterprise Co., Ltd.
Goang Jau Shing Enterprise Co., Ltd.
Goldioceans International Co., Ltd.
High Point Steel Mfg. Co., Ltd.
Hoka Elements Co., Ltd.
Huang-Yi Steel Coil Co., Ltd.
JJSE Co., Ltd.
Jye Chi Corporation
Kunn Chuan Enterprise Co., Ltd.
Lien Kuo Metal Industries Co., Ltd.
Lung An Stainless Steel Ind. Co., Ltd.
Omen Bright Co., Ltd.
PFP Taiwan Co., Ltd.
Pyramid Metal Technology Co., Ltd.
Shing Shong Ta Metal Ind. Co., Ltd.
S-More Steel Materials Co., Ltd.
Sinkang Industries Co., Ltd.
Shye Yao Steel Co., Ltd.
Stanch Stainless Steel Co., Ltd.
Sinkang Industries, Ltd.
Ta Chen International
Sun Chun Stainless Co., Ltd.
Ta Fong Steel Co., Ltd.
Ta Chen Stainless Pipe Co., Ltd
Tang Eng Iron Works
Taiwan Nippon Steel Stainless
Tzong Ji Metals Co., Ltd.
Tsung Yui Enterprise Co., Ltd.
Yc Inox Co., Ltd.
Wuu Jing Enterprise Co., Ltd.
Yi Shuenn Enterprise Co., Ltd.
Yieh Loong Enterprise Co., Ltd. (aka Chung Hung Steel Co., Ltd.)
Yieh Mau Corporation
Yieh Trading Co.
Yieh United Steel Corporation (YUSCO)
Yuan Long Stainless Steel Corp.
Yuen Chang Stainless Steel Co., Ltd.
Yuh Sheng Stainless Steel Co., Ltd.
TAIWAN: Certain Stilbenic Optical Brightening Agents, A-583-848 | 5/1/20-4/30/21
Teh Fong Min International Co., Ltd.
THE PEOPLE'S REPUBLIC OF CHINA: Aluminum Extrusions, A-570-967 | 5/1/20-4/30/21
Anhui Morden Living Co., Ltd.
Apex Shipping Group (Dalian) Co., Ltd.
Changzhou Ssangleong Industrial Textile Co., Ltd.
China National Aero-Technology Import and Export Corporation
China Suzhou Erma Machinery Co., Ltd.
City Ocean International Inc.
D. MAG (Kunshan) New Material Technology Co. Ltd. LLC
Dalian Senmiao Wooden Products Co., Ltd.
E Motor Industries International Shanghai Co., Ltd.
East Asia Aluminum Co., Ltd.
Easteel Hard Ware Co., Ltd.
Foshan Faxus Trading Co. Ltd
Foshan Sanshui Haixiang Artwork
Fuzhou Baitu E Commerce Co., Ltd.
Fuzhou Light Industry Imp. & Exp. Co., Ltd.
Hangzhou Hongli Pipe Machinery Co., Ltd.
Hangzhou Yong Ting Silk Co., Ltd.
Honour Lane Shipping Ltd
Juxianxing Imp. & Exp. (Shenzhen) Co.
Kingtom Aluminio SRL
Nanhai Silk Import & Export Corp Ltd of Guangdong
Paleo Furniture Co., Ltd.
Shanghai HST Transport Co., Ltd
Shenzhen Wanguoyong Commerce Co. Ltd.
Shenzhen Zhongsheng Import and Export Co. Ltd.
Sichuan Hongxing Shoes Factory Materials Co., Ltd.
Taizhou Meihua Work of Art Co., Ltd.
Topocean Consolidation Service (China) Limited
Wuxi Qianzhou Machinery Equipment Factory
Zhejiang Hengfeng Top Leisure Co., Ltd.
Zhuhai Haofeng Imp. & Exp. Co., Ltd.
THE PEOPLE'S REPUBLIC OF CHINA: Oil Country Tubular Goods, A-570-943 | 5/1/20-4/30/21
China United International Company
Confab Industrial S.A.
HLD Clark Steel Pipe Co., Inc.
HLDS (B) Steel SDN BHD
Huludao City Steel Pipe Industrial Co., Ltd.
THE PEOPLE'S REPUBLIC OF CHINA: Pure Magnesium, A-570-832 | 5/1/20-4/30/21
Tianjin Magnesium International Co., Ltd.
Tianjin Magnesium Metal Co., Ltd.
TURKEY: Circular Welded Carbon Steel Pipes and Tubes, A-489-501 | 5/1/20-4/30/21
Borusan Mannesmann Boru Sanayi ve Ticaret A.S.
Borusan Mannesmann Pipe U.S. Inc.
Borusan Birlesik Boru Fabrikalari San ve Tic
Borusan Gemlik Boru Tesisleri A.S.
Borusan Holding
Borusan Ihracat Ithalat ve Dagitim A.S.
Borusan Ithicat ve Dagitim A.S.
Borusman Istikbal Ticaret T.A.S.
Borusan Mannesmann Yatirim Holding
Cayirova Boru Sanayi ve Ticaret A.S.
Cinar Boru Profil San. Ve Tic. A.S.
Erbosan Erciyas Boru Sanayi ve Ticaret A.S.
Kale Baglann Teknolojileri San. ve Tic. A.S.
Noksel Celik Boru Sanayi A.S.
Toscelik Metal Ticaret A.S.
Toscelik Profil Ve Sac Endüstrisi A.S.
Tosyali Dis Ticaret A.S
Tubeco Pipe and Steel Corporation
Yucel Boru ve Profil Endustrisi A.S.
Yucelboru Ihracat ve Pazarlama A.S.
TURKEY: Large Diameter Welded Pipe, A-489-833 | 5/1/20-4/30/21
Borusan Istikbal Ticaret
HDM Celik Boru Sanayi ve Ticaret A.S.
HDM Spiral Kaynakli Boru A.S.
HDM Spirally Welded Steel Pipe Inc.
Spirally Welded Steel Pipe Inc.
Çimtaş Boru Imalatiral Ticaret Ltd.
Cimtas Boru Imalatlari ve Ticaret Ltd. Sti.
Cimtas Boru Imalatlari LTD STI
Emek Boru Makina Sanayi ve Ticaret A.S.
Erciyas Celik Boru Sanayi A.S.
Mazlum Mangtay Boru Son. Ins. Tar.Urn.San.ve Tic. A.S.
Noksel Celik Boru Sanayi A.S.
Ozbal Celik Boru San. Tic. Ve TAAH A.S.
Toscelik Profil ve Sac End. A.S.
Toscelik Profile and Sheet Ind. Co.
Toscelik Spiral Boru Uretim A.S.
Umran Celik Boru Sanayii A.S.
UNITED ARAB EMIRATES: Certain Steel Nails, A-520-804 | 5/1/20-4/30/21
Al Falaq Building Materials
Al Khashab Building Materials Co., LLC
Al Rafaa Star Building Materials Est.
Al Sabbah Trading and Importing, Est.
All Ferro Building Materials, LLC
Asgarali Yousuf Trading Co., LLC
Azymuth Consulting, LLC
Burj Al Tasmeem, Tr.
Gheewala Hardware Trading Company, LLC
Master Nails and Pins Manufacturing, LLC
Middle East Manufacturing Steel LLC
New World International, LLC
Okzeela Star Building Materials Trading, LLC
Rich Well Steel Industries LLC
Rishi International, FZCO
Samrat Wire Industry, LLC
Sea Lan Contracting
SK Metal International DMCC
Trade Circle Enterprises, LLC
CVD Proceedings
REPUBLIC OF KOREA: Certain Carbon and Alloy Steel Cut-To-Length Plate, C-580-888 | 1/1/20-12/31/20
Ajin Industrial Co., Ltd.
BDP International
Blue Track Equipment
Boxco
Bukook Steel Co., Ltd.
Buma CE Co., Ltd.
China Chengdu International Techno-Economic Cooperation Co., Ltd.
Daehan I.M. Co., Ltd.
Daehan Tex Co., Ltd.
Daelim Industrial Co., Ltd.
Daesam Industrial Co., Ltd.
Daesin Lighting Co., Ltd.
Daewoo International Corp.
Dong Yang Steel Pipe
DK Dongshin Co., Ltd.
Dongbu Steel Co., Ltd.
Dongkuk Industries Co., Ltd.
Dongkuk Steel Mill Co., Ltd.
EAE Automotive Equipment
EEW KHPC Co., Ltd.
Eplus Expo Inc.
GS Global Corp.
Haem Co., Ltd.
Han Young Industries
Hyosung Corp.
Hyundai Steel Co.
Jinmyung Frictech Co., Ltd.
Khana Marine Ltd.
Kindus Inc.
Korean Iron and Steel Co., Ltd.
Kyoungil Precision Co., Ltd.
Menics
POSCO
POSCO International
Qian'an Rentai Metal Products Co., Ltd
Samsun C&T Corp.
Samsung
Shinko
Shipping Imperial Co., Ltd.
Sinchang Eng Co., Ltd.
SK Networks Co., Ltd.
SNP Ltd.
Steel N People Ltd.
Summit Industry
Sungjin Co., Ltd.
Young Sun Steel
REPUBLIC OF KOREA: Large Diameter Welded Pipe, C-580-898 | 1/1/20-12/31/20
AJU Besteel Co., Ltd.
Chang Won Bending Co., Ltd.
Daiduck Piping Co., Ltd.
Dong Yang Steel Pipe Co., Ltd.
Dongbu Incheon Steel Co., Ltd.
EEW KHPC Co., Ltd.
EEW Korea Co., Ltd.
EM Solution Co., Ltd.
Hansol Metal Co., Ltd.
Hawin
Histeel Co., Ltd.
Husteel Co., Ltd.5
Hyosung
Hyundai RB Co., Ltd.
Hyundai Steel
Hyundai Steel Co., Ltd.
Hyundai Steel Company 6
Kiduck Industries Co., Ltd.
Kum Kang Kind. Co., Ltd.
Kumsoo Connecting Co., Ltd.
Nexteel Co., Ltd.
POSCO
Samkang M&T Co., Ltd.
SeAH Steel Corporation
SeAH Steel, Co., Ltd.
Seonghwa Industrial Co., Ltd.
SIN‐E B&P Co., Ltd.
Steel Flower Co., Ltd.
WELTECH Co., Ltd.
THE PEOPLE'S REPUBLIC OF CHINA: Aluminum Extrusions, C-570-968 | 1/1/20-12/31/20
Anhui Morden Living Co., Ltd.
Apex Shipping Group (Dalian) Co., Ltd.
Changzhou Ssangleong Industrial Textile Co., Ltd.
China National Aero-Technology Import and Export Corporation
China Suzhou Erma Machinery Co., Ltd.
City Ocean International Inc.
D. MAG (Kunshan) New Material Technology Co. Ltd. LLC
Dalian Senmiao Wooden Products Co., Ltd.
E Motor Industries International Shanghai Co., Ltd.
East Asia Aluminum Co., Ltd.
Easteel Hard Ware Co., Ltd.
Foshan Faxus Trading Co. Ltd
Foshan Sanshui Haixiang Artwork
Fuzhou Baitu E Commerce Co., Ltd.
Fuzhou Light Industry Imp. & Exp. Co., Ltd.
Hangzhou Hongli Pipe Machinery Co., Ltd.
Hangzhou Yong Ting Silk Co., Ltd.
Honour Lane Shipping Ltd
Juxianxing Imp. & Exp. (Shenzhen) Co.
Kingtom Aluminio SRL
Nanhai Silk Import & Export Corp Ltd of Guangdong
Paleo Furniture Co., Ltd.
Shanghai HST Transport Co., Ltd
Shenzhen Wanguoyong Commerce Co. Ltd.
Shenzhen Zhongsheng Import and Export Co. Ltd.
Sichuan Hongxing Shoes Factory Materials Co., Ltd.
Taizhou Meihua Work of Art Co., Ltd.
Topocean Consolidation Service (China) Limited
Wuxi Qianzhou Machinery Equipment Factory
Zhejiang Hengfeng Top Leisure Co., Ltd.
Zhuhai Haofeng Imp. & Exp. Co., Ltd.
TURKEY: Large Diameter Welded Pipe, C-489-834 | 1/1/20-12/31/20
Borusan Istikbal Ticaret
HDM Celik Boru Sanayi ve Ticaret A.S.
HDM Spiral Kaynakli Boru A.S.
HDM Spirally Welded Steel Pipe Inc.
Spirally Welded Steel Pipe Inc.
Çimtaş Boru Imalatiral Ticaret Ltd.
Cimtas Boru Imalatlari ve Ticaret Ltd. Sti.
Cimtas Boru Imalatlari LTD STI
Emek Boru Makina Sanayi ve Ticaret A.S.
Erciyas Celik Boru Sanayi A.S.
Mazlum Mangtay Boru Son. Ins. Tar.Urn.San.ve Tic. A.S.
Noksel Celik Boru Sanayi A.S.
Ozbal Celik Boru San. Tic. Ve TAAH A.S.
Toscelik Profil ve Sac End. A.S.
Toscelik Profile and Sheet Ind. Co.
Toscelik Spiral Boru Uretim A.S.
Umran Celik Boru Sanayii A.S.

Suspension Agreements

⁵ Subject merchandise both produced and exported by Husteel Co., Ltd. (Husteel) is excluded from the countervailing duty order. See Large Diameter Welded Pipe from the Republic of Korea: Countervailing Duty Order, 84 FR 18773 (May 2, 2019). Thus, Husteel's inclusion in this administrative review is limited to entries for which Husteel was not both the producer and exporter of the subject merchandise.

⁶ Subject merchandise both produced and exported by Hyundai Steel Company (Hyundai Steel) and subject merchandise produced by Hyundai Steel and exported by Hyundai Corporation are excluded from the countervailing duty order. See Large Diameter Welded Pipe from the Republic of Korea: Countervailing Duty Order, 84 FR 18773 (May 2, 2019). Thus, Hyundai Steel's inclusion in this administrative review is limited to entries for which Hyundai Steel was not the producer and exporter of the subject merchandise and for which Hyundai Steel was not the producer and Hyundai Corporation was not the exporter of subject merchandise.

None.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,⁷ available at https://enforcement.trade.gov/frn/2013/1304frn/2013-08227.txt, prior to submitting factual information in this segment. Note that Commerce has temporarily modified certain of its requirements for serving documents containing business proprietary information, until further notice.⁸

⁷ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

⁸ See Temporary Rule Modifying AD/CVD Service Requirements Due to COVID-19, 85 FR 41363 (July 10, 2020).

Any party submitting factual information in an AD or CVD proceeding must certify to the accuracy and completeness of that information using the formats provided at the end of the Final Rule.⁹ Commerce intends to reject factual submissions in any proceeding segments if the submitting party does not comply with applicable certification requirements.

⁹ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁰ In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

¹⁰ See 19 CFR 351.302.

These initiations and this notice are in accordance with section 751(a) of the Act (19 U.S.C. 1675(a)) and 19 CFR 351.221(c)(1)(i).

Dated: June 29, 2021.
James Maeder,
Deputy Assistant Secretary for Antidumping and Countervailing Duty Operations.

[FR Doc. 2021-14290 Filed 7-2-21; 8:45 am]

BILLING CODE 3510-DS-P